DEPARTMENT OF THE INTERIOR

Bureau of Land Management

[LLORM00000-L63000000.HD0000.22x.HAG 22-0025]

Notice of Cancelation and Rescheduling of Public Meetings of the Western Oregon Resource Advisory Council

AGENCY: Bureau of Land Management, Interior.

ACTION: Notice of public meetings.

SUMMARY: In accordance with the Federal Land Policy and Management Act and the Federal Advisory Committee Act of 1972, the U.S. Department of the Interior, Bureau of Land Management (BLM) Western Oregon Resource Advisory Council (RAC) has rescheduled public meetings originally scheduled for September 22 and October 11 and 13, 2022.

DATES: The Western Oregon RAC has rescheduled its meetings for November 29 and December 1, 2022. Each meeting will begin at 9 a.m. The November 29 meeting will adjourn at approximately 4 p.m. The December 1 meeting will adjourn at approximately 3 p.m.

ADDRESSES: The meetings will be virtual meetings held over the Zoom platform. Register for the meeting here: https://blm.zoomgov.com/webinar/register/WN_6EJ1iK41Se2wuw2tvZtI5g.

FOR FURTHER INFORMATION CONTACT: Kyle Sullivan, Public Affairs Specialist, Medford District, 3040 Biddle Road, Medford, OR 97504; phone: (541) 618-2340; email: ksullivan@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The 15-member Western Oregon RAC advises the Secretary of the Interior, through the BLM, on a variety of public land issues across public lands in Western Oregon, including the Coos Bay, Medford, Northwest Oregon, and Roseburg Districts and part of the Lakeview District. Topics of discussion for these meetings include Secure Rural Schools Title II funding, recreation, recreation fee proposals, fire management, land use planning, invasive species management, timber management, travel management, wilderness, cultural resource management, and other issues as appropriate. Both meetings will focus on reviewing projects that have been proposed to receive funding under Title II of the Secure Rural Schools and Community Self-Determination Act. Final agendas will be available on the RAC's web page 2 weeks in advance of the meeting at https://www.blm.gov/get-involved/resource-advisory-council/near-you/oregon-washington/western-oregon-rac.

The meetings are open to the public, and a public comment period will be held at 3 p.m. on November 29, and at 2 p.m. on December 1. Depending on the number of persons wishing to comment, time allotted for individual oral comments may be limited. The public may present written comments to the RAC. Before including your address, phone number, email address, or other personal identifying information in your comment, you should be aware that your entire comment—including your personal identifying information—may be made publicly available at any time. While you can ask us in your comment to withhold your personal identifying information from public review, we cannot guarantee that we will be able to do so.

Please make requests in advance for sign language interpreter services, assistive listening devices, or other reasonable accommodations. We ask that you contact the person listed in the (see FOR FURTHER INFORMATION CONTACT) section of this notice at least 7 business days prior to the meeting to give the BLM sufficient time to process your request. All reasonable accommodation requests are managed on a case-by-case basis.

Summary minutes for the RAC meetings will be maintained in the Medford District Office and will be available for public inspection and reproduction during regular business hours within 30 days following the meeting. Previous minutes, membership information, and upcoming agendas are available at: https://www.blm.gov/get-involved/resource-advisory-council/near-you/oregon-washington.

(Authority: 43 CFR 1784.4-2)

Elizabeth R. Burghard,
Designated Federal Official.

[FR Doc. 2022-21694 Filed 10-5-22; 8:45 am]

BILLING CODE 4310-33-P